DEPARTMENT OF COMMERCE

Patent and Trademark Office

[Docket No. PTO-P-2025-0010]

Termination of the Climate Change Mitigation Pilot Program

AGENCY: United States Patent and Trademark Office, Department of Commerce.

ACTION: Notice.

SUMMARY: The United States Patent and Trademark Office (USPTO or Office) is terminating the Climate Change Mitigation Pilot Program.

DATES: The Climate Change Mitigation Pilot Program was suspended on January 28, 2025. This notice serves as the formal termination of the program. Petitions to participate in the program filed after 5 p.m. ET on January 28, 2025, will not be granted.

FOR FURTHER INFORMATION CONTACT: Kristie A. Mahone, Senior Legal Advisor, Office of Patent Legal Administration, Deputy Commissioner for Patents, at 571-272-9016 or Kristie.Mahone@uspto.gov; or Parikha Mehta, Senior Legal Advisor, Office of Patent Legal Administration, Deputy Commissioner for Patents, at 571-272-3248 or Parikha.Mehta@uspto.gov.

SUPPLEMENTARY INFORMATION: In 2022, the USPTO published a notice implementing the Climate Change Mitigation Pilot Program. See Climate Change Mitigation Pilot Program, 87 FR 33750 (June 3, 2022) (2022 Notice). The 2022 Notice cited Executive Order 14008 of January 27, 2021, and indicated that an applicant may file a petition to request that an application be advanced out of turn (accorded special status) for the first Office action on the merits without satisfying all the current requirements of the accelerated examination program. See id. at 33751-33752. In 2023, the USPTO expanded and extended the program to expire at the earlier of June 7, 2027, or the date the USPTO accepted a total of 4,000 grantable petitions. See Expansion and Extension of the Climate Change Mitigation Pilot Program, 88 FR 35841 (June 1, 2023).

Executive Order 14148 of January 20, 2025, revoked Executive Order 14008, which had been cited as the basis for the pilot program. See E.O. 14148: Initial Rescissions of Harmful Executive Orders and Actions, 90 FR 8237, 8238 (January 28, 2025). In accordance with Executive Order 14148, the USPTO posted a notification suspending the program on the program's web page on January 28, 2025. See https://www.uspto.gov/patents/laws/patent-related-notices/climate-change-mitigation-pilot-program.

Through this notice, the USPTO is now formally terminating the program. Terminating the program allows the USPTO to dedicate USPTO resources to reducing pendency across all applications regardless of what technology the application is directed to, consistent with both 35 U.S.C. 154(b)(1) and statements made at the inception of the program and in the notice of expansion and extension, where the USPTO reserved the discretion to terminate the program depending on factors such as workload and resources needed to administer the program. See 87 FR 33750 at 33751.

Any petition to participate in the program (“climate petition”) filed after 5 p.m. ET on January 28, 2025, will not be granted. The phrase “any petition to participate in the program” encompasses initial and renewed climate petitions. Accordingly, a renewed climate petition filed after 5 p.m. ET on January 28, 2025, will not be granted, irrespective of the filing date and time of the initial climate petition and whether the USPTO's dismissal of the initial climate petition afforded applicant an opportunity to correct deficiencies by filing a subsequent petition. Similarly, a request under 37 CFR 1.181 for reconsideration of a decision dismissing a climate petition that was filed after 5 p.m. ET on January 28, 2025, will not be granted because any climate petition filed after the suspension of the program is untimely.

The USPTO has removed petition form PTO/SB/457, titled “CERTIFICATION AND PETITION TO MAKE SPECIAL UNDER THE CLIMATE CHANGE MITIGATION PILOT PROGRAM,” from the USPTO's website, and decommissioned the corresponding document code—PET.CLIMATE—in Patent Center. Applicants should not submit stored copies of form PTO/SB/457.

The USPTO will continue to process climate petitions filed by 5 p.m. ET on January 28, 2025, as set forth in Part II of the 2022 Notice, with the exception that applicants will not be afforded an opportunity to correct any deficiencies. See 87 FR at 33752-33753. Patent applications accorded special status because a grantable climate petition was filed by 5 p.m., ET on January 28, 2025, will not lose that status merely because the application is still pending after that deadline. Any such application will retain special status until a first Office action on the merits is issued, and the application will be treated as described in Parts III-VII of the 2022 Notice. See id. at 33753.

Patent applicants interested in expediting the prosecution of their patent application may instead request prioritized examination under 37 CFR 1.102(e). Under prioritized examination, a patent application is advanced out of turn (accorded special status) for examination until a final disposition is reached if the applicant timely files a request for prioritized examination, accompanied by the appropriate fees, and meets the other conditions of 37 CFR 1.102(e). Small and micro entity discounts of 60% and 80% respectively, for the prioritized examination fee are available for qualified applicants. Prioritized examination is available at the time of filing an original utility or plant application under 35 U.S.C. 111(a). This is referred to as the Track One Program. In addition, a prioritized examination request may be granted for a request for continued examination in a utility or plant application, including an application that has entered the national stage under 35 U.S.C. 371. See subsection 708.02(b)(I)(C) of the Manual of Patent Examining Procedure (9th Edition, Rev. 01.2024, November 2024). The current USPTO fee schedule is available on the USPTO website at http://www.uspto.gov/Fees.

Additional information on the conditions, eligibility requirements, and guidelines for the Track One Program and prioritized examination are available at https://www.uspto.gov/patents/initiatives/usptos-prioritized-patent-examination-program.

Coke Morgan Stewart,
Acting Under Secretary of Commerce for Intellectual Property and Acting Director of the United States Patent and Trademark Office.

[FR Doc. 2025-06701 Filed 4-17-25; 8:45 am]

BILLING CODE 3510-16-P